DEPARTMENT OF TRANSPORTATION

Federal Aviation Administration

14 CFR Part 39

[Docket No. FAA-2015-7529; Directorate Identifier 2014-NM-207-AD]

RIN 2120-AA64

Airworthiness Directives; Bombardier, Inc. Airplanes

AGENCY: Federal Aviation Administration (FAA), DOT.

ACTION: Supplemental notice of proposed rulemaking (SNPRM); reopening of comment period.

SUMMARY: We are revising an earlier proposal to supersede Airworthiness Directive (AD) 2014-16-02 for certain Bombardier, Inc. Model CL-600-1A11 (CL-600) airplanes. This action revises the notice of proposed rulemaking (NPRM) by reducing the compliance time to modify the thrust reversers, and adding new modification procedures. We are proposing this AD to address the unsafe condition on these products. Since these actions impose an additional burden over those proposed in the NPRM, we are reopening the comment period to allow the public the chance to comment on these proposed changes.

DATES: We must receive comments on this SNPRM by January 27, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this SNPRM, contact Bombardier, Inc., 400 Côte-Vertu Road West, Dorval, Québec H4S 1Y9, Canada; Widebody Customer Response Center North America; toll-free telephone number 1-866-538-1247 or direct-dial telephone number 1-514-855-2999; fax 514-855-7401; email ac.yul@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-7529; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Cesar Gomez, Aerospace Engineer, Airframe and Mechanical Systems Branch, ANE-171, FAA, New York Aircraft Certification Office (ACO), 1600 Stewart Avenue, Suite 410, Westbury, NY 11590; telephone: 516-228-7318; fax: 516-794-5531; email: cesar.gomez@faa.gov.

SUPPLEMENTARY INFORMATION:

Comments Invited

We invite you to send any written relevant data, views, or arguments about this proposed AD. Send your comments to an address listed under the ADDRESSES section. Include “Docket No. FAA-2015-7529; Directorate Identifier 2014-NM-207-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued an NPRM to amend 14 CFR part 39 to supersede AD 2014-16-02, Amendment 39-17926 (79 FR 46968, August 12, 2014) (“AD 2014-16-02”). AD 2014-16-02 applies to certain Bombardier, Inc. Model CL-600-1A11 (CL-600) airplanes. The NPRM published in the Federal Register on December 24, 2015 (80 FR 80293) (“the NPRM”). The NPRM was prompted by a determination that it is necessary to add a requirement to repair or modify the thrust reversers, which would terminate the requirements of AD 2014-16-02. The NPRM proposed to continue to require the actions specified in AD 2014-16-02. The NPRM also proposed to require repair or modification of the thrust reversers. This action revises the NPRM by reducing the compliance time to modify the thrust reversers, and adding new modification procedures.

Actions Since Previous NPRM Was Issued

Since we issued the NPRM, Transport Canada Civil Aviation (TCCA), which is the aviation authority for Canada, issued Canadian Airworthiness Directive CF-2014-19R1, dated March 14, 2016 (referred to after this as the Mandatory Continuing Airworthiness Information, or “the MCAI”), to correct an unsafe condition for certain Bombardier, Inc. Model CL-600-1A11 (CL-600) airplanes. The MCAI states:

There have been two reported incidents of partial deployment of an engine thrust reverser in-flight, caused by a failure of the translating sleeve at the thrust reverser actuator attachment points. Inspection of the same area on some other thrust reversers revealed cracks emanating from the holes under the nut plates.

In both incidents, the affected aeroplane landed safely without any noticeable controllability issues, however structural failure of thrust reverser actuator attachment points resulting in thrust reverser deployment or dislodgment in flight is a safety hazard warranting an immediate mitigating action.

To help in mitigating any immediate safety hazard, Bombardier Inc. has revised the Aircraft Flight Manual (AFM) through Temporary Revisions (TR) 600/29, 600/30, 600-1/24 and 600-1/26, to prohibit the thrust reverser operation on affected aeroplanes. Additionally, as an interim corrective action, Bombardier Inc. has issued alert service bulletin (ASB) A600-0769 requiring an inspection and/or a mechanical lock out of the thrust reverser to prevent it from moving out of forward thrust mode.

Original [TCCA] Emergency AD CF-2014-19 was issued 20 June 2014 to mandate the incorporation of above mentioned revised AFM procedures and compliance with ASB A600-0769. This [TCCA] AD is now being revised to include the terminating action in accordance with Part C of the ASB A600-0769 Rev 02 dated 22 February 2016.

We reduced the compliance time for modification of the thrust reversers specified in paragraph (k) of this SNPRM to match the compliance time specified in the MCAI. We also added new procedures in paragraph (k) of this SNPRM for modifying the thrust reversers.

You may examine the MCAI in the AD docket on the Internet at http://www.regulations.gov by searching for and locating Docket No. FAA-2015-7529.

Related Service Information Under1 CFR Part 51

We reviewed Bombardier Alert Service Bulletin A600-0769, Revision 02, dated February 22, 2016. The service information describes procedures for modifying the thrust reversers on both engines. The modification includes inspections for cracks and elongated holes.

We also reviewed the following TRs, which introduce procedures to prohibit thrust reverser operation. These documents are distinct since they apply to different airplane configurations.

• Canadair TR 600/29-2, dated January 18, 2016, to the Canadair CL-600-1A11 AFM.

• Canadair TR 600-1/24-2, dated January 18, 2016, to the Canadair CL-600-1A11 AFM (Winglets).

This service information is reasonably available because the interested parties have access to it through their normal course of business or by the means identified in the ADDRESSES section.

Comments

We gave the public the opportunity to participate in developing this proposed AD. We considered the comments received.

Request To Cite Most Recent Service Information

Bombardier, Inc. requested that we revise the proposed AD (in the NPRM) to cite the most recent AFMs. Bombardier, Inc. explained that the AFM TRs mentioned in paragraph (g) of the proposed AD (in the NPRM) have been revised to include AFM TRs 600/30-2, 600-1/26-2, 600/29-2, and 600-1/24-2, all dated January 18, 2016.

We agree to refer to the revised AFM TRs that apply to U.S.-registered airplanes in paragraphs (g)(1) and (g)(2) of this proposed AD. Those TRs are Canadair TR 600/29-2, dated January 18, 2016, to the Canadair CL-600-1A11 AFM; and Canadair TR 600-1/24-2, dated January 18, 2016, to the Canadair CL-600-1A11 AFM (Winglets).

Bombardier, Inc. also requested that we refer to Bombardier Alert Service Bulletin A600-0769, Revision 02, dated February 22, 2016, as described previously.

We agree with the commenter's request. We revised the introductory text of paragraph (h) and paragraphs (h)(2), (i), and (k) of this proposed AD to refer to Bombardier Alert Service Bulletin A600-0769, Revision 02, dated February 22, 2016. We also clarified the actions specified in paragraphs (h)(2) and (i) of this proposed AD by referring to Part B of Bombardier Alert Service Bulletin A600-0769, Revision 02, dated February 22, 2016, for the modification specified in those paragraphs.

In addition, paragraph (k) of the proposed AD (in the NPRM) specified doing a repair or modification using a method approved by the Manager, New York Aircraft Certification Office (ACO), ANE-170, FAA; or Transport Canada Civil Aviation (TCCA); or Bombardier, Inc.'s TCCA Design Approval Organization (DAO). Because Part C of Bombardier Alert Service Bulletin A600-0769, Revision 02, dated February 22, 2016, is the appropriate source of service information for doing the terminating action (i.e., modifying the thrust reversers), we have revised paragraph (k) of this proposed AD to refer to that service information. However, under the provisions of paragraph (n)(1) of this proposed AD, we will consider requests for approval of other repairs or modifications if sufficient data are submitted to substantiate that the repair or modification would provide an acceptable level of safety.

Request To Specify Terminating Action

Bombardier, Inc. requested that we revise paragraph (k) of the proposed AD (in the NPRM) to specify that doing the actions specified in that paragraph terminates the requirements of paragraph (g) of the proposed AD.

We agree with the commenter's request. The MCAI states that accomplishing the modification in Part C of Bombardier Alert Service Bulletin A600-0769, Revision 02, dated February 22, 2016, terminates the inspections and interim modification. However, we have determined that accomplishing the actions in Part C of Bombardier Alert Service Bulletin A600-0769, Revision 02, dated February 22, 2016, also terminates the requirement for the AFM revisions specified in paragraph (g) of this proposed AD. The TRs specified in paragraph (g) of this proposed AD only apply to airplanes on which the actions specified in Part C of Bombardier Alert Service Bulletin A600-0769, Revision 02, dated February 22, 2016, have not been done. We have revised paragraph (k) of this proposed AD accordingly.

Request To Revise Phone Number and Email

Bombardier, Inc. requested that we revise the NPRM to include revised contact information for the widebody customer response center.

We agree and have revised the ADDRESSES section of this SNPRM and paragraph (o)(2) of this proposed AD accordingly.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the NPRM. As a result, we have determined that it is necessary to reopen the comment period to provide additional opportunity for the public to comment on this SNPRM.

Differences Between This SNPRM and the MCAI or Service Information

Part C of Bombardier Alert Service Bulletin A600-0769, Revision 02, dated February 22, 2016, specifies to do certain inspections for cracks and elongated holes, but does not specify corrective actions for airplanes on which any crack or elongated hole is found. Paragraph (l) of this proposed AD would require that for any cracking or elongated hole, a repair be done using a method approved by the Manager, New York ACO, ANE-170, FAA; or TCCA; or Bombardier, Inc.'s TCCA DAO.

Costs of Compliance

We estimate that this proposed AD would affect 18 airplanes of U.S. registry.

We estimate the following costs to comply with this proposed AD:

Estimated Costs
Action | Labor cost | Parts cost | Cost per product | Cost on U.S. operators
AFM revision; inspection [retained actions from AD 2014-16-02] | 29 work-hours × $85 per hour = $2,465 | N/A | $2,465 | $44,370
New modification | 100 work-hours × $85 per hour = $8,500 | $509 | 9,009 | 162,162

We estimate the following costs to do any necessary modifications that would be required based on the results of the proposed inspection. We have no way of determining the number of airplanes that might need this modification:

On-Condition Costs
Action | Labor cost | Parts cost | Cost per product
Modification | 36 work-hours × $85 per hour = $3,060 | $509 | $3,569

We have received no definitive data that would enable us to provide cost estimates for the on-condition actions for the inspections that are part of the new modification specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-16-02, Amendment 39-17926 (79 FR 46968, August 12, 2014), and adding the following new AD:

Bombardier, Inc.: Docket No. FAA-2015-7529; Directorate Identifier 2014-NM-207-AD.

(a) Comments Due Date

We must receive comments by January 27, 2017.

(b) Affected ADs

This AD replaces AD 2014-16-02, Amendment 39-17926 (79 FR 46968, August 12, 2014) (“AD 2014-16-02”).

(c) Applicability

This AD applies to Bombardier, Inc. Model CL-600-1A11 (CL-600) airplanes, certificated in any category, serial numbers 1004 through 1085 inclusive.

(d) Subject

Air Transport Association (ATA) of America Code 78, Engine Exhaust.

(e) Reason

This AD was prompted by reports of partial deployment of an engine thrust reverser in flight caused by a failure of the translating sleeve at the thrust reverser attachment points. We are issuing this AD to detect and correct cracks of the translating sleeve at the thrust reverser actuator attachment points, which could result in deployment or dislodgement of an engine thrust reverser in flight and subsequent reduced control of the airplane.

(f) Compliance

Comply with this AD within the compliance times specified, unless already done.

(g) Retained Airplane Flight Manual (AFM) Revision With Revised Service Information

This paragraph restates the requirements of paragraph (g) of AD 2014-16-02, with revised service information. Within 1 calendar day after August 12, 2014 (the effective date of AD 2014-16-02): Revise the applicable sections of the AFM to include the information specified in the temporary revisions (TRs) identified in paragraphs (g)(1) and (g)(2) of this AD, as applicable. These TRs introduce procedures to prohibit thrust reverser operation. Operate the airplane according to the limitations and procedures in the TRs identified in paragraphs (g)(1) and (g)(2) of this AD, as applicable. The revision required by paragraph (g) of this AD may be done by inserting copies of the applicable TRs identified in paragraphs (g)(1) and (g)(2) of this AD into the AFM. When these TRs have been included in the general revisions of the AFM, the general revisions may be inserted in the AFM, provided the relevant information in the general revision is identical to that in the applicable TRs, and the TRs may be removed.

(1) Canadair TR 600/29-2, dated June 20, 2014, to the Canadair CL-600-1A11 AFM; or Canadair TR 600/29-2, dated January 18, 2016, to the Canadair CL-600-1A11 AFM. As of the effective date of this AD, use only Canadair TR 600/29-2, dated January 18, 2016, to the Canadair CL-600-1A11 AFM.

(2) Canadair TR 600-1/24, dated June 20, 2014, to the Canadair CL-600-1A11 AFM (Winglets), including Erratum, Publication No. PSP 600-1AFM (US), TR No. 600-1/24, June 20, 2014; or Canadair TR 600-1/24-2, dated January 18, 2016, to the Canadair CL-600-1A11 AFM (Winglets). As of the effective date of this AD, use only Canadair TR 600-1/24-2, dated January 18, 2016, to the Canadair CL-600-1A11 AFM (Winglets).

(h) Retained Repetitive Inspections and Modifications, With Revised Service Information

This paragraph restates the requirements of paragraph (h) of AD 2014-16-02, with revised service information. Within 25 flight cycles or 90 days, whichever occurs first, after August 12, 2014 (the effective date of AD 2014-16-02), do detailed inspections (including a borescope inspection) of both engine thrust reversers for cracks, in accordance with the Accomplishment Instructions of Bombardier Alert Service Bulletin A600-0769, Revision 01, dated June 26, 2014; or Bombardier Alert Service Bulletin A600-0769, Revision 02, dated February 22, 2016. As of the effective date of this AD, use only Bombardier Alert Service Bulletin A600-0769, Revision 02, dated February 22, 2016.

(1) If no cracking is found during any inspection required by paragraph (h) of this AD, repeat the inspection required by paragraph (h) of this AD thereafter at intervals not to exceed 100 flight cycles until the repair or modification specified in paragraph (i) or (k) of this AD is done.

(2) If any cracking is found during any inspection required by paragraph (h) of this AD, before further flight, modify the thrust reversers on both engines, in accordance with Part B of the Accomplishment Instructions of Bombardier Alert Service Bulletin A600-0769, Revision 01, dated June 26, 2014; or Bombardier Alert Service Bulletin A600-0769, Revision 02, dated February 22, 2016. As of the effective date of this AD, use only Bombardier Alert Service Bulletin A600-0769, Revision 02, dated February 22, 2016.

(i) Retained Optional Terminating Modification, With Revised Service Information

This paragraph restates the optional terminating action specified in paragraph (i) of AD 2014-16-02, with revised service information. Modifying the thrust reversers on both engines, in accordance with Part B of the Accomplishment Instructions of Bombardier Alert Service Bulletin A600-0769, Revision 01, dated June 26, 2014; or Bombardier Alert Service Bulletin A600-0769, Revision 02, dated February 22, 2016; terminates the inspections required by paragraph (h) of this AD. As of the effective date of this AD, use only Bombardier Alert Service Bulletin A600-0769, Revision 02, dated February 22, 2016.

(j) Retained Credit for Previous Actions, With No Changes

This paragraph restates the credit provided in paragraph (j) of AD 2014-16-02, with no changes. This paragraph provides credit for actions required by paragraphs (h) and (i) of this AD, if those actions were performed before August 12, 2014 (the effective date of AD 2014-16-02), using Bombardier Alert Service Bulletin A600-0769, dated June 19, 2014.

(k) New Requirement of This AD: Modification and Inspections

Within 24 months after the accomplishing the modification specified in paragraph (h)(2) of this AD, or within 48 months after accomplishing the initial inspection required by paragraph (h) of this AD, whichever occurs later: Modify the thrust reversers on both engines, including doing the inspections specified in paragraphs (k)(1) through (k)(6) of this AD, in accordance with Part C of the Accomplishment Instructions of Bombardier Alert Service Bulletin A600-0769, Revision 02, dated February 22, 2016, except as required by paragraphs (m)(1) and (m)(2) of this AD. Modification of all thrust reversers terminates the requirements of paragraphs (g), (h), and (i) of this AD.

(1) Do general visual inspections of the flipper doors for cracks.

(2) Do a general visual inspection of the thrust reverser skin, frames, joints, splices, and fasteners for cracks.

(3) Do a general visual inspection of the thrust reverser for cracks.

(4) Do liquid penetrant or eddy current inspections, as applicable, of the frames for cracks.

(5) Do a detailed visual inspection of the frames for cracks and elongated holes, and do a liquid penetrant inspection of the frames for cracks.

(6) Do a liquid penetrant or an eddy current inspection of the translating sleeve skin for cracks.

(l) New Requirement of This AD: Repair

If, during any inspection required by paragraph (k) of this AD, any cracking or elongated hole is found, before further flight, repair using a method approved by the Manager, New York Aircraft Certification Office (ACO), ANE-170, FAA; or Transport Canada Civil Aviation (TCCA); or Bombardier, Inc.'s TCCA Design Approval Organization (DAO).

(m) New Exceptions to Service Information

(1) If is not possible to follow all instructions specified in Bombardier Alert Service Bulletin A600-0769, Revision 02, dated February 22, 2016, during accomplishment of the actions required by paragraph (k) of this AD, before further flight, repair using a method approved by the Manager, New York ACO, ANE-170, FAA; or TCCA; or Bombardier, Inc.'s TCCA DAO.

(2) Where Bombardier Alert Service Bulletin A600-0769, Revision 02, dated February 22, 2016, specifies to contact Bombardier if shim thickness is over the applicable thicknesses identified in Bombardier Alert Service Bulletin A600-0769, Revision 02, dated February 22, 2016, before further flight, repair using a method approved by the Manager, New York ACO, ANE-170, FAA; or TCCA; or Bombardier, Inc.'s TCCA DAO.

(n) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the New York ACO, send it to ATTN: Program Manager, Continuing Operational Safety, FAA, New York ACO, 1600 Stewart Avenue, Suite 410, Westbury, NY 11590; telephone: 516-228-7300; fax: 516-794-5531. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, New York ACO, ANE-170, FAA; or TCCA; or Bombardier, Inc.'s TCCA DAO. If approved by the DAO, the approval must include the DAO-authorized signature.

(o) Related Information

(1) Refer to Mandatory Continuing Airworthiness Information (MCAI) Canadian AD CF-2014-19R1, dated March 14, 2016, for related information. This MCAI may be found in the AD docket on the Internet at http://www.regulations.gov by searching for and locating Docket No. FAA-2015-7529.

(2) For service information identified in this AD, contact Bombardier, Inc., 400 Côte-Vertu Road West, Dorval, Québec H4S 1Y9, Canada; Widebody Customer Response Center North America; toll-free telephone number 1-866-538-1247 or direct-dial telephone number 1-514-855-2999; fax 514-855-7401; email ac.yul@aero.bombardier.com; Internet http://www.bombardier.com. You may view this service information at the FAA, Transport Airplane Directorate, 1601 Lind Avenue SW., Renton, WA. For information on the availability of this material at the FAA, call 425-227-1221.

Issued in Renton, Washington, on November 18, 2016.
Michael Kaszycki,
Acting Manager, Transport Airplane Directorate, Aircraft Certification Service.

[FR Doc. 2016-28622 Filed 12-12-16; 8:45 am]

BILLING CODE 4910-13-P